DEPARTMENT OF COMMERCE

[Docket No. 150619535-5535-01]

Privacy Act of 1974, New System of Records

AGENCY: U.S. Department of Commerce, National Institute of Standards and Technology.

ACTION: Notice of Proposed New Privacy Act System of Records.

SUMMARY: In accordance with the Privacy Act of 1974, as amended, Title 5 United States Code (U.S.C.) 552(e)(4) and (11); and Office of Management and Budget (OMB) Circular A-130, Appendix 1, “Federal Agency Responsibilities for Maintaining Records About Individuals,” the Department of Commerce is issuing this notice of its intent to establish a new system of records entitled “COMMERCE/NIST-8, Child Care Subsidy Program Records.” This action is being taken to update the Privacy Act notice and Department of Commerce, Notice to Amend All Privacy Act System of Records. We invite the public to comment on the items noted in this publication. The purpose of this system of records is to verify NIST employees' eligibility for child care subsidies.

DATES: To be considered, written comments must be submitted on or before August 13, 2015.

Unless comments are received, the new system of records will become effective as proposed on the date of publication of a subsequent notice in the Federal Register.

ADDRESSES: You may submit written comments by any of the following methods:

Email: Essex.Brown@nist.gov. Include “Privacy Act COMMERCE/NIST-8, Child Care Subsidy Program Records” in the subtext of the message.

Fax: (301) 948-6107, marked to the attention of Essex W. Brown.

Mail: Essex W. Brown, National Institute of Standards and Technology, 100 Bureau Drive, Gaithersburg, MD 20899, Building 101, Room A224, (301)-975-3801.

FOR FURTHER INFORMATION CONTACT: Kaitlyn Kemp, National Institute of Standards and Technology, 100 Bureau Drive, Gaithersburg, MD 20899, Building 101, Room A123, (301) 975-3319.

SUPPLEMENTARY INFORMATION: This notice announces the Department of Commerce's (Department) proposal for a new system of records under the Privacy Act of 1974 for Child Care Subsidy Program Records. The Child Care Subsidy Program Records is a new system established to verify NIST employees' eligibility for child care subsidies.

COMMERCE/NIST-8

SECURITY CLASSIFICATION:

None

SYSTEM NAME:

COMMERCE/NIST-8, Child Care Subsidy Program Records.

SYSTEM LOCATION:

National Institute of Standards and Technology (NIST) Child Care Subsidy Program Manager, Office of Human Resources Management, 100 Bureau Drive, Room 1720, Gaithersburg, MD 20899.

CATEGORIES OF INDIVIDUALS COVERED BY THE SYSTEM:

Employees of NIST who voluntarily apply for child care subsidies.

CATEGORIES OF RECORDS IN THE SYSTEM:

Application forms for a child care subsidy may contain personal information, including employee's name, Social Security Number, grade, home phone number, home address, email address, total income, number of dependent children, and number of children on whose behalf the employee is applying for a subsidy, information on any tuition assistance received from State/County/local child care subsidy, and information on child care providers used, including their name, address, provider license number, and State where license issues, tuition cost, provider tax identification number, bank routing number, bank account number, and copies of Internal Revenue Form 1040 for verification purposes.

AUTHORITY FOR MAINTENANCE OF THE SYSTEM:

40 U.S.C. 490b-1; Sec. 630 of Pub. L. 107-67 November 12, 2001; and Executive Order 9397 as Amended by Executive Order 13478 (November 18, 2008).

PURPOSE:

To establish and verify NIST employees' eligibility for child care subsidies in order for NIST to provide monetary assistance to its employees.

ROUTINE USES OF RECORDS MAINTAINED IN THE SYSTEM, INCLUDING CATEGORIES OF USERS AND THE PURPOSES OF SUCH USES:

1. In the event that a system of records maintained by the Department to carry out its functions indicates a violation or potential violation of law or contract, whether civil, criminal or regulatory in nature, and whether arising by general statute or particular program statute or contract, or rule, regulation, or order issued pursuant thereto, or the necessity to protect an interest of the Department and Federal partners, the relevant records in the system of records may be referred to the appropriate agency, whether Federal, state, local or foreign, charged with the responsibility of investigating or prosecuting such violation or charged with enforcing or implementing the statute or contract, or rule or order issued pursuant thereto, or protecting the interest of the DOC.

2. A record in this system of records may be disclosed to a Member of Congress submitting a request involving an individual when the individual has requested assistance from the Member with respect to the subject matter of the record.

3. A record in this system of records may be disclosed to the Department of Justice in connection with determining whether disclosure thereof is required by the Freedom of Information Act (5 U.S.C. 552).

4. A record in this system of records may be disclosed to a contractor of the Department having need for the information in the performance of the contract, but not operating a system of records within the meaning of 5 U.S.C. 552a(m).

5. A record from this system of records may be disclosed to the Administrator, General Services Administration (GSA), or his/her designee, during an inspection of records conducted by GSA as part of that agency's responsibility to recommend improvements in records management practice and programs, under the authority of 44 U.S.C. 2904 and 2906. Such disclosure shall be made in accordance with the GSA regulations governing inspection of records for this purpose, and any other relevant (i.e. GSA or Commerce) directive. Such disclosure shall not be used to make determinations about individuals.

6. A record from this system of records may be disclosed in the course of presenting evidence to a court, magistrate or administrative tribunal, including disclosures to opposing counsel in the course of settlement negotiations.

7. A record in this system of records may be disclosed to appropriate agencies, entities and persons when (1) it is suspected or determined that the security or confidentiality of information in the system of records has been compromised; (2) the Department has determined that as a result of the suspected or confirmed compromise there is a risk of harm to economic or property interests, identity theft or fraud, or harm to the security or integrity of this system or whether systems or programs (whether maintained by the Department or another agency or entity) that rely upon the compromised information; and (3) the disclosure made to such agencies, entities, and persons is reasonably necessary to assist in connection with the Department's efforts to respond to the suspected or confirmed compromise and to prevent, minimize, or remedy such harm.

8. A record from this system of records may be disclosed to a Federal, state, or local agency maintaining civil, criminal or other relevant enforcement information or other pertinent information, such as current licenses, if necessary to obtain information relevant to a Department decision concerning the assignment, hiring or retention of an individual, the issuance of a security clearance, the letting of a contract, or the issuance of a license, grant or other benefit.

9. A record for this system of records may be disclosed to a Federal, state, local, or international agency, in response to the request, in connection with the assignment, hiring or retention of an individual, the issuance of a security clearance, the reporting of an investigation of an individual, the letting of a contract, or the issuance of a license, grant, or other benefit by the requesting agency, to the extent that the information is relevant and necessary to the requesting agency's decision on the matter.

10. Disclosure may be made to the Office of Personnel Management or the Government Accountability Office when the information is required for evaluation of the subsidy program.

DISCLOSURE TO CONSUMER REPORTING AGENCIES:

Not applicable.

POLICIES AND PRACTICES FOR STORING, RETRIEVING, RETAINING, AND DISPOSING OF RECORDS IN THE SYSTEM:

STORAGE:

Hard copy files may be maintained in paper form and on diskettes; additional electronic files may be kept in electronic digital media in encrypted format within a controlled environment, and accessed only by authorized personnel.

RETRIEVABILITY:

The records are retrieved by name and may also be cross-referenced to Social Security Number.

SAFEGUARDS:

Paper records and disks as stored in file cabinets on secured premises with access limited to personnel whose official duties require access. For electronic media, the system is password protected and is FIPS 199 (Federal Information Processing Standard Publication 199, “Standards for Security Categorization of Federal Information and Information Systems”) compliant. The electronic system adheres to a Moderate security rating.

RETENTION AND DISPOSAL:

Records are disposed of in accord with the appropriate records disposition schedule approved by the Archivist of the United States.

SYSTEM MANAGER(S) AND ADDRESSE(S):

National Institute of Standards and Technology (NIST) Child Care Subsidy Program Manager, Office of Human Resources Management, 100 Bureau Drive, Room 1720, Gaithersburg, MD 20899.

NOTIFICATION PROCEDURE:

An individual requesting notification of existence of records on himself or herself should send a signed, written inquiry to the location listed below. The request letter should be clearly marked, “PRIVACY ACT REQUEST.” The written inquiry must be signed and notarized or submitted with certification of identity under penalty of perjury. Requesters should reasonably specify the record contents being sought.

National Institute of Standards and Technology, Freedom of Information and Privacy Act Officer, Room 1710, 100 Bureau Drive, Gaithersburg, MD 20899.

RECORD ACCESS PROCEDURE:

An individual requesting access to records on himself or herself should send a signed, written inquiry to the same address as stated in the Notification Procedure section above. The request letter should be clearly marked, “PRIVACY ACT REQUEST.” The written inquiry must be signed and notarized or submitted with certification of identity under penalty of perjury. Requesters should reasonably specify the record contents being sought.

CONTESTING RECORD PROCEDURE:

An individual requesting corrections or contesting information contained in his or her records must send a signed, written request inquiry to the same address as stated in the Notification Procedure section above. Requesters should reasonably identify the records, specify the information they are contesting and state the corrective action sought and the reasons for the correction with supporting justification showing how the record is incomplete, untimely, inaccurate, or irrelevant.

The Department's rules for access, for contesting contents, and for appealing initial determination by the individual concerned appear in 15 CFR part 4.

RECORD SOURCE CATEGORIES:

Information is provided by NIST employees who apply for child care subsidies.

EXEMPTIONS CLAIMED FOR THE SYSTEM:

None.

Dated: July 8, 2015.
Michael J. Toland,
Acting Freedom of Information and Privacy Act Officer, Department of Commerce.

[FR Doc. 2015-17246 Filed 7-13-15; 8:45 am]

BILLING CODE 3510-DT-P